DEPARTMENT OF LABOR

Employment and Training Administration

[TA-W-61,655]

Westell, Inc., Including on-site Temporary Workers from Kay and Associates, Aurora, IL; Amended Certification Regarding Eligibility to Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on June 25, 2007, applicable to workers of Westell, Inc., Aurora, Illinois. The notice was published in the Federal Register on July 19, 2007 (72 FR 39642).

At the request of the State agency, the Department reviewed the certification for workers of the subject firm. The workers are engaged in the production of network access products, and are not separately identifiable.

New information shows that temporary workers of Kay and Associates were employed on-site at the Aurora, Illinois, location of Westell, Inc. The Department has determined that these workers were sufficiently under the control of the subject firm to be considered temporary workers.

Based on these findings, the Department is amending this certification to include temporary workers of Kay and Associates working on-site at the Aurora, Illinois, location of the subject firm.

The intent of the Department's certification is to include all workers employed at Westell, Inc., Aurora, Illinois, who were adversely affected by increased imports of network access products.

The amended notice applicable to TA-W-61,655 is hereby issued as follows:

All workers of Westell, Inc., including on-site temporary workers from Kay and Associates, Aurora, Illinois, who became totally or partially separated from employment on or after June 7, 2006, through June 25, 2009, are eligible to apply for adjustment assistance under Section 223 of the Trade Act of 1974, and are also eligible to apply for alternative trade adjustment assistance under Section 246 of the Trade Act of 1974.

Signed at Washington, DC, this 17th day of June 2008.
Linda G. Poole,
Certifying Officer, Division of Trade Adjustment Assistance.

[FR Doc. E8-14300 Filed 6-24-08; 8:45 am]

BILLING CODE 4510-FN-P